DEPARTMENT OF JUSTICE

Notice of Proposed Consent Decree Under the Comprehensive Environmental Response, Compensation, and Liability Act and the Park System Resource Protection Act

Notice is hereby given that on May 9, 2011, the United States lodged a proposed Consent Decree in United States et al. v. South Carolina Electric & Gas Company, Case No. 2-11-cv-1110-CWH (D. S. Car. May 9, 2011). The proposed Consent Decree resolves environmental claims brought by plaintiffs including the United States Department of Interior, National Oceanic and Atmospheric Administration of the United States Department of Commerce, the Office of the Governor of South Carolina, the South Carolina Department of Health and Environmental Control (“SDHEC”), and the South Carolina Department of Natural Resources (“SCDNR”) against South Carolina Electric & Gas Company (“SCE&G”). The claims arise from the release of hazardous substances at the National Park Service's Dockside II Property, which is located in Fort Sumter National Monument, Charleston, South Carolina.

Under the terms of the Consent Decree, SCE&G agrees to pay the United States $3.4 million for costs incurred responding to the release or threatened release of hazardous substances under the Comprehensive Environmental Response, Compensation, and Liability Act (“CERCLA”), 42 U.S.C. 9607(a). In addition, SCE&G agrees to pay $200,000 in damages to the United States for damages incurred by the National Park Service under the Park System Resource Protection Act, 16 U.S.C. 19jj. SCE&G also agrees to pay $120,528.88 to state and federal trustees for natural resources damages, which will be used for oyster habitat restoration, 42 U.S.C. 9607(a). Finally, SCE&G has agreed to reimburse NOAA for $26,932.51, SCDHEC for $1,589.26, and SCDNR for $949.35 in costs incurred performing natural resources damages assessments, 42 U.S.C. 9607(a). In return, SCE&G, will receive a covenant not to sue from the United States with respect to past and future response costs at the Dockside II Property pursuant to Section 107(a) of CERCLA, 42 U.S.C. 9607(a) and damages under the Park System Resource Protection Act, 16 U.S.C. 19jj. SCE&G will also receive a covenant from the United States and State of South Carolina for natural resources damages pursuant to CERCLA Section 107(a) at the Calhoun Park Area Site, 42 U.S.C. 9607(a).

The Department of Justice will receive for a period of thirty (30) days from the date of this publication comments relating to the Consent Decree. Comments should be addressed to Ignacia S. Moreno, Assistant Attorney General, Environment and Natural Resources Division, and either e-mailed to pubcomment-ees.enrd@usdoj.gov or mailed to P.O. Box 7611, U.S. Department of Justice, Washington, DC 20044-7611, and should refer to United States et al. v. South Carolina Electric & Gas Company, Case No. 2-11-cv-1110-CWH (D. S. Car. May 9, 2011), D.J. Ref. 90-11-2-1171/1.

The Consent Decree may be examined on the following Department of Justice website: http://www.usdoj.gov/enrd/Consent_Decrees.html. A copy of the Settlement Agreement may also be obtained by mail from the Consent Decree Library, P.O. Box 7611, U.S. Department of Justice, Washington, DC 20044-7611, or by faxing or e-mailing a request to Tonia Fleetwood (tonia.fleetwood@usdoj.gov), fax number (202) 514-0097, phone confirmation number (202) 514-1547. In requesting a copy from the Consent Decree Library, please enclose a check in the amount of $6.50 (.25 cents per page reproduction cost) payable to the U.S. Treasury, or if by e-mail or fax, forward a check in that amount to the Consent Decree Library at the stated address.

Dated: May 12, 2011.
Henry Friedman,
Assistant Chief, Environmental Enforcement Section, Environment and Natural Resources Division.

[FR Doc. 2011-12218 Filed 5-17-11; 8:45 am]

BILLING CODE 4410-15-P